DEPARTMENT OF COMMERCE

International Trade Administration

[A-507-502]

Certain In-Shell Raw Pistachios from Iran: Rescission of Antidumping Duty Administrative Review

AGENCY: Import Administration, International Trade Administration, Department of Commerce

ACTION: Notice of Rescission of Antidumping Duty Administrative Review

SUMMARY: On August 27, 2002, the Department of Commerce (the Department) published in the Federal Register (67 FR 55000) a notice announcing the initiation of an administrative review of the antidumping duty order on certain in-shell pistachios from Iran covering two exporters. The period of review (POR) is July 1, 2001, to June 30, 2002. This review has now been rescinded because both parties requesting the review withdrew their request.

EFFECTIVE DATE: April 7, 2003.

FOR FURTHER INFORMATION CONTACT: Phyllis Hall or Donna Kinsella, Enforcement Group III, Office 8, Import Administration, International Trade Administration, U.S. Department of Commerce, 14th Street and Constitution Avenue, NW., Room 7866, Washington, DC 20230; telephone (202) 482-1398 or (202) 482-0194 respectively.

Scope of the Review

The product covered by this review is raw, in-shell pistachio nuts from which the hulls have been removed, leaving the inner hard shells, and edible meats from Iran. This merchandise is currently provided for in item 0802502000 of the Harmonized Tariff Schedule.

Background:

On July 31, 2002, Cyrus Marketing (an importer) requested an administrative review of Rafsanjan Pistachio Producers Cooperative (RPPC), an Iranian producer and exporter of in-shell pistachios, with respect to the antidumping duty order published in the Federal Register. See Antidumping Duty Order: Certain In Shell Pistachios from Iran, 51 FR 25922 (July 17, 1986). Additionally, the petitioner, California Pistachio Commission (CPC), requested an administrative review of the Tehran Negah Nima Trading Company, Inc. (Nima). The Department initiated the review for both companies. See Initiation of Antidumping and Countervailing Duty Administrative Reviews and Requests for Revocation in Part, 67 FR 55000 (August 27, 2002).

On March 5, 2003, the CPC withdrew its request for administrative review of Nima. On March 19, 2003, Cyrus Marketing withdrew its request for review of RPPC. The applicable regulation, 19 CFR 351.213(d)(1)(2002), states that if a party that requested an administrative review withdraws the request within 90 days of the publication of the notice of initiation of the requested review, the Secretary will rescind the review. Although Cyrus Marketing's and the CPC's requests for withdrawal were made after the 90-day deadline, in accordance with 19 CFR 351.213(d)(1), the Secretary may extend this time limit if the Secretary decides it is reasonable to do so. We have received no submissions opposing Cyrus Marketing's request for withdrawal of the administrative review and Cyrus Marketing was the only party to request the administrative review of RPPC. Likewise, we have received no submissions opposing CPC's request for withdrawal of the administrative review and CPC was the only party to request the administrative review of Nima. In addition, on October 31, 2002, Nima submitted certifications that it did not have any U.S. sales or shipments during the POR. Therefore, we find it reasonable to extend the deadline and accept the withdrawal requests, and we are rescinding this review of the antidumping duty order on certain in-shell pistachios from Iran covering the period July 1, 2001, through June 30, 2002, for both companies.

This notice is issued and published in accordance with sections 751 and 777(i) of the Tariff Act of 1930 and 19 CFR 351.213(d)(4).

Dated: April 1, 2003.
Joseph A. Spetrini,
Acting Assistant Secretary for Import Administration.

[FR Doc. 03-8413 Filed 4-4-03; 8:45 am]

BILLING CODE 3510-DS-S